LIBRARY OF CONGRESS

Copyright Office

[Docket No. 2008-2]

Review of Copyright Royalty Judges Determination

AGENCY: Copyright Office, Library of Congress.

ACTION: Notice; correction.

SUMMARY: The Register of Copyrights published a document in the Federal Register of February 19, 2008, reviewing the determinations of the Copyright Royalty Judges for setting rates and terms for use of the sections 112 and 114 statutory licenses by New Subscription Services, Preexisting Subscription Services and Preexisting Satellite Digital Audio Radio Services.

FOR FURTHER INFORMATION CONTACT: Tanya Sandros, General Counsel, Copyright Office. Telephone (202) 707-8380.

Correction

In the Federal Register of February 19, 2008, in Docket No. 2008-2, correct the following citations to read:

On page 9144 in the second column, third paragraph, line five, “71 FR 1455”.

On page 9144 in the third column, first paragraph, last line, “72 FR 71795”.

On page 9145 in the third column, sixth line from the top, “72 FR 61586”.

Dated: February 20, 2008
Tanya Sandros,
General Counsel.

[FR Doc. E8-3619 Filed 2-25-08; 8:45 am]

BILLING CODE 1410-30-S